DEPARTMENT OF THE INTERIOR

Bureau of Indian Affairs

[167 A2100DD/AAKC001030/A0A501010.999900]

Stillaguamish Tribe of Indians—Amendment to Liquor Control Ordinance

AGENCY: Bureau of Indian Affairs, Interior.

ACTION: Notice.

SUMMARY: This notice publishes the Stillaguamish Tribe of Indians Liquor Control Ordinance. The ordinance allows the Tribe to manufacture beer, and allows for the sale, distribution, and tribal taxation of beer within the jurisdiction of the Stillaguamish Tribe of Indians. This Ordinance repeals and replaces the previous liquor control ordinance published in the Federal Register on June 12, 2012 (77 FR 34982).

DATES: This ordinance is effective January 11, 2016.

FOR FURTHER INFORMATION CONTACT: Mr. Gregory Norton, Tribal Government Officer, Northwest Regional Office, Bureau of Indian Affairs, 911 NE 11th Avenue, Portland, OR 97232; Telephone: (503) 231-6702; Fax: (503) 231-2201, or Ms. Laurel Iron Cloud, Chief, Division of Tribal Government Services, Office of Indian Services, Bureau of Indian Affairs, 1849 C Street NW., MS-4513-MIB, Washington, DC 20240; Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Stillaguamish Tribe of Indians duly adopted Resolution Number 2015/099 on May 28, 2015.

This notice is published in accordance with the authority delegated by the Secretary of the Interior to the Assistant Secretary—Indian Affairs. I certify that the Stillaguamish Tribe of Indians duly adopted this amendment to the Stillaguamish Tribe of Indians Liquor Ordinance by Resolution Number 2015/099 on May 28, 2015.

Dated: December 21, 2015.
Kevin K. Washburn,
Assistant Secretary—Indian Affairs.

SUBCHAPTER 600

STILLAGUAMISH TRIBE OF INDIANS LIQUOR CONTROL ORDINANCE

GENERAL PROVISIONS

3.06.600 General Purpose

The Stillaguamish Tribe of Indians (Tribe) has a significant interest in protecting the health, safety and general welfare of its members, the residents within the Tribe's Indian Country and those persons and businesses doing business on and/or visiting the Tribe's Indian Country. The purpose of the Ordinance is to exercise the Tribe's jurisdiction to regulate the sale, manufacturing, distribution, and taxation of liquor within the Tribe's Indian Country in conformity with any compact between the Tribe and the State of Washington, Article 10 of the Treaty of Point Elliott of 1855, 12 Stat. 927, to which the Tribe is a party, and in conformity with 18 U.S.C. 1161, and to raise revenues to fund health, safety and general welfare programs and services provided to Tribal members and residents of and visitors to land within the Tribe's territorial jurisdiction.

The authority to protect the Tribe as a sovereign political entity and to adopt the Ordinance codified herein is vested in the Stillaguamish Tribe of Indians, Board of Directors under Article III and Article V, Sec. 1 of the Constitution, which Board has enumerated authority under Article V, Sec. 1 (a) to enact a comprehensive law and order code which provides for tribal civil and criminal jurisdiction; under Article V Sec. 1(b) to administer the affairs and assets of the Tribe, including tribal lands and funds; under Article V, Section 1(d) to provide for taxes, assessments, permits and license fees upon members and non-members within the Tribe's jurisdiction; and under Article V Sec. l(h), to exercise other necessary powers to fulfill the Board's obligations, responsibilities and purposes as the governing body of the Tribe; and in the inherent sovereignty of the Stillaguamish Tribe of Indians to regulate its own territory and activities therein.

The need exists for strict tribal regulation and control over liquor distribution, manufacturing, sales and taxation within the Tribe's Indian Country. Therefore, in the public interest and for the welfare of the people of the Stillaguamish Tribe of Indians, its employees, the residents of and visitors to Indian Country, the Stillaguamish Board of Directors, in the exercise of its authority under the Tribe's Constitution, declares its purpose by the provisions of this Subchapter to regulate the sale, manufacturing and distribution of liquor.

3.06.601 Scope

(1) This Subchapter shall apply to the full extent of the sovereign jurisdiction of the Tribe.

(2) Compliance with this Subchapter is hereby made a condition of the use of any land or premises within the Tribe's Indian Country.

(3) Any person who resides, conducts business, engages in a business transaction, receives benefits from the Tribe, acts under tribal authority, or enters the Tribe's Indian Country shall be deemed to have consented to the following:

(a) To be bound by the terms of this Subchapter;

(b) To the exercise of the exclusive jurisdiction of the Stillaguamish tribal Court for legal actions arising pursuant to this Subchapter; and

(c) To detainment, service of summons and process, and search and seizure, in conjunction with legal actions arising pursuant to this Subchapter.

(4) No portion of this Ordinance and Subchapter shall be construed as contrary to Federal law.

3.06.602 Repeal of Prior Liquor Control Laws

(1) All ordinances and resolutions of the Tribe regulating, authorizing, prohibiting or in any way dealing with the sale of liquor heretofore enacted or now in effect are hereby repealed and are declared to be of no further force and effect, with the exception of the provisions of the Stillaguamish Tribe of Indians Law and Order Code, including but not limited to the provisions of Chapter 8.40, Alcohol-Related Offenses.

(2) The provisions of this Subchapter shall be prospective only from the date of its effectiveness. Nothing contained herein shall be deemed to revoke any presently existing valid license or permit or renewal thereof previously issued by the Washington State Liquor Control Board or the exercise of privilege given thereunder to any retailer subject to the provisions of this Subchapter.

3.06.603 Definitions

All definitions of the Taxation Code Section 3.06.201 apply herein unless the terms are otherwise defined in this Subchapter. For purposes of this Subchapter, whenever any of the following words, terms or definitions is used herein, they shall have the meaning ascribed to them in this Subchapter:

(1) “Brewer” or “brewery” means any person engaged in the business of manufacturing beer and malt liquor and as such terms are further defined in the Revised Code of Washington in RCW 66.04.010.

(2) “Indian Country,” consistent with the meaning given in 18 U.S.C. 1151 means: (a) all land within the limits of the Stillaguamish Indian Reservation under the jurisdiction of the United States government, notwithstanding the issuance of any patent, and, including rights of way running through the reservation; and (b) all Indian allotments or other lands held in trust for the Tribe or a member of the Tribe, including rights of way running through the same.

(3) “Liquor” means the four varieties of liquor (alcohol, spirits, wine, and beer), and all fermented, spirituous, vinous, or malt liquor, or combinations thereof, and mixed liquor, a part of which is fermented, spirituous, vinous or malt liquor, or otherwise intoxicating; and as such term and the four varieties thereof are further defined in the Revised Code of Washington in RCW 66.04.010.

(4) “Malt beverage” or “malt liquor” means any beverage such as beer, ale, lager beer, stout, and porter obtained by the alcoholic fermentation of an infusion or decoction of pure hops, or pure extract of hops and pure barley malt or other wholesome grain or cereal in pure water containing not more than eight percent of alcohol by weight, and not less than one-half of one percent of alcohol by volume. For purposes this Subchapter, any such beverage containing more than eight percent of alcohol by weight shall be referred to as “strong beer.”

(5) “Manufacturer” means a person engaged in the preparation and manufacturing of liquor for sale, in any form whatsoever.

(6) “Sale” and “sell” means the same as such terms are defined in the Revised Code of Washington in RCW 66.04.010.

(7) “Tribal retailer” means a liquor retailer wholly owned by the Stillaguamish Tribe of Indians and located in Indian Country.

(8) “Tribally-licensed retailer” means a person who has a business license from the Tribe to sell liquor at retail from a business located in Indian Country.

3.06.604 Stillaguamish Tax Commission

The Board hereby authorizes the Tax Commission of the Stillaguamish Tribe of Indians to administer this Subchapter, including general control, management and supervision of all liquor sales, manufacturing, and distribution, places of sale and sales outlets, and to exercise all of the powers and accomplish all of the purposes thereof as hereinafter set forth any do the following acts and things for and on behalf of and in the name of the Tribe:

(1) Adopting and enforcing rules and regulations for the purpose of carrying into effect the provisions of this Subchapter the performance of its functions;

(2) Collecting, auditing and issuing fees, licenses, taxes and permits; and

(3) Performing all matters and things incidental to and necessary to conduct its business and carry out its duties and functions under this Subchapter.

LICENSE REQUIRED

3.06.610 License Required of Tribal Retailers and Tribally-licensed Retailers

Every person engaging in the business of selling, manufacturing, or distributing liquor within the Tribe's Indian Country, including but not limited to a brewery, shall secure a business license from the Tribe in the manner provided for by Subchapter 100 of this Title (“Business Licenses”) and otherwise comply with all provisions of Subchapter 100.

3.06.611 Prohibitions

(1) The manufacture, purchase, sale, and dealing in liquor within Tribe's Indian Country by any person, party, firm, or corporation except pursuant to the control, licensing, and regulation of the Stillaguamish Tax Commission, is hereby declared unlawful. Without limitation as to any other penalties and fines that may apply, any violation of this subsection is an infraction punishable by a fine of up to five hundred dollars ($500.00).

(2) Every person engaging in the business of manufacturing, distributing or selling liquor within the Tribe's Indian Country shall comply with the provisions of Chapter 8.40, Alcohol-Related Offenses, of the Stillaguamish Tribe of Indians Law and Order Code, the provisions of which are re-affirmed and are specifically incorporated herein by this reference. Any violation of this subsection is punishable pursuant to the penalty provisions of Chapter 8.40, Alcohol-Related Offenses of the Stillaguamish Tribe of Indians Law and Order Code.

3.06.612 Conformity with State Law as Required

Tribal retailers and tribally-licensed retailers shall comply with any applicable Washington State liquor law standards to the extent required by 18 U.S.C. 1161 and the Agreement Between the Washington State Liquor Control Board and the Stillaguamish Indian Tribe for Purchase and Resale of Liquor in Indian Country (“Agreement”), if any. To the extent provisions of this Subchapter conflict with the Agreement, the terms of the Agreement control.

TAXATION

3.06.620 Tribal Liquor Tax

The Tribe expressly reserves its inherent sovereign right to regulate the use and sale of liquor through the imposition of tribal taxes thereon. The Board hereby authorizes and expressly reserves its authority to impose a tribal Liquor Tax on sales of all alcoholic beverages, including packaged and retail sales of liquor, wine, and beer, at a rate determined to be fair and equitable by the Board through independent action.

3.06.621 Liquor Sales Not Subject to Tribal Retail Sales Tax

The Tribe's Retail Sales Tax shall not apply to retail sales of liquor.

ADMINISTRATION

3.06.630 Severability

If any section, provision, phrase, addition, word, sentence or amendment of this Subchapter or its application to any person is held invalid, such invalidity shall not affect the other provisions or applications of this Subchapter that can be given effect without the invalid application, and to that end the provisions of this Subchapter are declared severable.

3.06.631 Nondiscrimination

No provision of this Subchapter shall be construed as imposing a regulation or tax that discriminates on the basis of whether a retail liquor establishment is owned, managed or operated by a member of the Tribe.

3.06.632 Effective Date

This Subchapter shall be and become effective upon publication by the United States Department of the Interior's certification in the Federal Register.

3.06.633 Sovereign Immunity

Nothing in this Subchapter shall be construed as a waiver or limitation of the inherent sovereign immunity of the Tribe.

Ordinance 2008/060 enacting this Title 3, Chapter 6 took effect on April 30, 2008, at 6:00 p.m. upon the approval of its provisions by the Board of Directors of the Stillaguamish Tribe of Indians, which date was April 28, 2008. Title 3, Chapter 6 of the Tribe's Law and Order Code was repealed and replaced with this Title, as amended by resolution 2011/048, enacted by the Board of Directors of the Stillaguamish Tribe of Indians on April 14, 2011, as amended by resolution 2012/146 dated September 27, 2012, as amended by resolution 2015/099 dated May 28, 2015.

[FR Doc. 2016-00334 Filed 1-8-16; 8:45 am]

BILLING CODE 4337-15-P